DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Advanced Education Nursing Traineeship (AENT) and Nurse Anesthetist Traineeship (NAT) (OMB No. 0915-0305) [Extension]

The Health Resources and Services Administration (HRSA) provides training grants to educational institutions to increase the numbers of advanced education nurses through the Advanced Education Nursing Traineeship (AENT) program and the Nurse Anesthetist Traineeship (NAT) program.

HRSA developed the AENT and NAT tables for the application guidances and the Nurse Traineeship Database for the two nursing traineeship programs. The AENT and NAT tables are used annually by grant applicants that are applying for AENT and NAT funding. The funds appropriated for the AENT and NAT programs are distributed among eligible institutions based on a formula. Award amounts are based on enrollment and graduate data reported on the tables and two funding factors (Statutory Funding Preference and Statutory Special Consideration).

The AENT and NAT tables include information on program participants such as the number of enrollees, projected data on enrollees and graduates for the following academic year, number of trainees supported, number of graduates, number of graduates supported and the types of programs they are enrolling into and/or from which they are graduating. AENT and NAT applicants will have a single access point to submit their grant applications including the tables. Applications are submitted in two phases: Grants.gov (Phase 1) and the HRSA Electronic Handbooks (Phase 2). These tables will be available electronically through the HRSA Electronic Handbooks (Phase 2) for applicants to submit their AENT and/or NAT grant application(s). The tables are also used in the Nurse Traineeship Database which is used by Division of Nursing staff and not the applicants.

Data from the tables will be used in the award determination and validation process. Additionally, the data will be used to ensure programmatic compliance, report to Congress and policymakers on the program accomplishments, and formulate and justify future budgets for these activities submitted to OMB and Congress.

The burden estimate for this project is as follows: AENT increased from 1 hour to 1.5 hours due to the revisions of AENT Tables 1, 2, 3 and 4 to capture comprehensive data to provide for more detailed data analysis of the AENT Program.

Instrument | Number of respondents | Responses per respondent | Total responses | Hours per response | Total burden hours
AENT | 500 | 1 | 500 | 1.5 | 750
NAT | 100 | 1 | 100 | 1 | 100
Total | 600 |  | 600 |  | 850

Written comments and recommendations concerning the proposed information collection should be sent within 30 days of this notice to the desk officer for HRSA, either by e-mail to OIRA_submission@omb.eop.gov or by fax to 202-395-6974. Please direct all correspondence to the “attention of the desk officer for HRSA.”

Dated: December 4, 2009.
Alexandra Huttinger,
Director, Division of Policy Review and Coordination.

[FR Doc. E9-29828 Filed 12-14-09; 8:45 am]

BILLING CODE 4165-15-P